DEPARTMENT OF LABOR

Occupational Safety and Health Administration

29 CFR Part 1910

[Docket No. H-052G]

Occupational Exposure to Cotton Dust

AGENCY: Occupational Safety and Health Administration (OSHA), Labor.

ACTION: Proposed rule; request for comments.

SUMMARY: OSHA is proposing to amend the Cotton Dust Standard to add batch kier washed cotton to the types of washed cotton granted partial exemption from the Cotton Dust Standard, because those methods greatly reduce the risk of byssinosis when that cotton is spun and woven. This amendment is based on the recommendation of the industry/government/union Task Force for Byssinosis Prevention and supported by published studies and government, union, and industry experts.

Because OSHA believes the amendment is not controversial, the Agency is issuing it as a direct final rule published in the Final Rules section of today's Federal Register. If no significant adverse comment is received on the direct final rule, OSHA will confirm the effective date of the final rule. If significant adverse comment is received, OSHA will withdraw the direct final rule and proceed with rulemaking on this proposal. A subsequent Federal Register document will be published to announce OSHA's action.

DATES: Written comments and requests for a hearing on this proposed rule must be submitted or sent electronically by February 5, 2001.

ADDRESSES: Comments and requests for a hearing may be sent in quadruplicate to Docket No. H-052G, Docket Office, Room N2625; Occupational Safety and Health Administration, U.S. Department of Labor, 200 Constitution Ave., N.W., Washington D.C. 20210 (202-693-2350).

Alternatively, one paper copy and one disc (3½ inch floppy in WordPerfect 6.0, 8.0 or ASCII) may be sent to the Docket mailing address; or one copy faxed to 202-693-1648 and 3 paper copies mailed to the Docket mailing address; or one copy E-mailed to ecomments.osha.gov and one paper copy mailed to the Docket mailing address.

FOR FURTHER INFORMATION CONTACT: Dr. Steven Bayard, Director of Office Risk Assessment, Occupational Safety and Health Administration, U.S. Department of Labor, Room N-3718, 200 Constitution Avenue, N.W., Washington, D.C. 20210, telephone: (202) 693-2275.

SUPPLEMENTARY INFORMATION:

Background

OSHA is today publishing a Direct Final Rule (DFR) adding batch kier washing to the types of washed cotton receiving partial exemption from the Cotton Dust Standard. A complete discussion of that amendment is published in the preamble to the DFR. The DFR is published in the Final Rules section of today's Federal Register. That discussion includes the scientific basis for the amendment, the regulatory text, and other supporting information. That discussion is incorporated as part of this proposal.

Public Participation

Any persons with significant adverse comments must submit those comments to the DFR by the dates specified in that document published in the Final Rules section of today's Federal Register.

Interested persons are requested to submit written data, views and arguments concerning this proposal. These comments must be received by February 5, 2001 and submitted in quadruplicate to the Docket No. H-052G, Docket Office; Room N2625; Occupational Safety and Health Administration; U.S. Department of Labor, 200 Constitution Ave., N.W., Washington DC 20210.

Alternatively, one paper copy and one disc (3½ inch floppy in WordPerfect 6.0, 8.0 or ASCII) may be sent to that address, or one copy faxed to (202) 693-1648 and 3 paper copies mailed to the Docket mail address or one copy E-mailed to ecomments.osha.gov and one paper copy mailed to the Docket mail address.

All written comments received within the specified comment period will be made a part of the record and will be available for public inspection and copying at the above Docket Office address.

OSHA requests comments on all issues related to granting cotton mildly washed in the batch kier system partial exemption from OSHA's cotton dust standard and findings that there are no negative economic, environmental or other regulatory impacts. OSHA is not requesting comment on any other issues nor opening the record for any other issues except for this amendment to paragraph (n)(4).

Additionally, under section 6(b)(3) of the OSH Act and 29 CFR 1911.11, interested persons may file objections to the proposal and request an informal hearing. The objections and hearing requests should be submitted in the same manner as comments to the Docket Office at the above address and must comply with the following conditions:

1. The objection must include the name and address of the objector;

2. The objections must be mailed by January 22, 2001;

3. The objections must specify with particularity the grounds upon which the objection is based;

4. Each objection must be separately numbered; and

5. The objections must be accompanied by a detailed summary of the evidence proposed to be adduced at the requested hearing.

Interested persons who object to the proposed amendment or have changes to recommend may, of course, make those objections and their recommendations in their written comments and OSHA will fully consider them. There is no need to file formal “objections” separately unless the interested person requests a public hearing.

OSHA recognizes that there may be interested persons who through their knowledge of health or their experience in the operations involved, would wish to endorse or support the amendment. OSHA welcomes such supportive comments, in order that the record of this rulemaking may present a balanced picture of the public response on the issues involved.

List of Subjects in 29 CFR Part 1910

Cotton dust, Hazardous substances, Occupational safety and health, Reporting and recordkeeping requirements.

Authority and Signature

This document was prepared under the direction of Charles N. Jeffress, Assistant Secretary of Labor for Occupational Safety and Health, 200 Constitution Avenue, NW., Washington, DC 20210.

This action is taken pursuant to sections 4, 6, and 8 of the Occupational Safety and Health Act of 1970 (29 U.S.C 653, 655, 657), section 4 of the Administrative Procedure Act (5 U.S.C. 553), Secretary of Labor's Order No. 3-2000 (65 FR 50017) and 29 CFR part 1911. Part 1910, Title 29, Code of Federal Regulations, is proposed to be amended as set forth below.

Signed at Washington, DC, this 4th day of December, 2000.
Charles N. Jeffress,
Assistant Secretary of Labor.

Part 1910 of Title 29 of the Code of Federal Regulations is hereby proposed to be amended as set forth below:

PART 1910—[AMENDED]

1. The authority citation for Subpart Z of Part 1910 is proposed to be amended to read as follows:

Authority: Sections 4, 6 and 8 of the Occupational Safety and Health Act of 1970 (29 U.S.C. 653, 655, 657); Secretary of Labor's Order No. 12-71 (36 FR 8754), 8-76 (41 FR 25059), 9-83 (48 FR 35736), 6-96 (62 FR 111), or 3-2000 (65 FR 50017), as applicable; and 29 CFR part 1911.

All of subpart Z issued under sec. 6 (b) of the Occupational Safety and Health Act, except those substances that have exposure limits listed in Tables Z-1, Z-2, and Z-3 of 29 CFR 1910.1000. The latter were issued under sec. 6(a) (29 U.S.C. 655(a)).

Section 1910.1000 Z-1, Z-2, Z-3, and 1910.1043(n) also issued under 5 U.S.C. 553, Section 1910.1000 Tables Z-1, Z-2, and Z-3 not issued under 29 CFR part 1911 except for the arsenic (organic compounds), benzene, and cotton dust listings.

Section 1910.1001 also issued under section 107 of the Contract Work Hours and Safety Standards Act ( 40 U.S.C. 333) and 5 U.S.C. 553.

Section 1910.1002 not issued under 29 U.S.C. 655 or 29 CFR part 1911; also issued under 5 U.S.C. 553.

Sections 1910.1018, 1910.1029 and 1910.1200 are also issued under 29 U.S.C. 653.

2. OSHA proposes to amend § 1910.1043 by revising paragraph (n) (4) as follows:

§ 1910.1043 Cotton dust.

* * * * *

(n) * * *

* * * * *

(4) Higher grade washed cotton. The handling or processing of cotton classed as “low middling light spotted or better” (color grade 52 or better and leaf grade code 5 or better according to the 1993 USDA classification system) shall be exempt from all provisions of the standard except the requirements of paragraphs (h) medical surveillance, (k) (2) through (4) recordkeeping—medical records, and Appendices B, C, and D of this section, if they have been washed on the following systems.

(i) On a continuous batt system or a rayon rinse system including the following conditions:

(A) With water;

(B) At a temperature of no less than 60° C;

(C) With a water-to-fiber ratio of no less than 40:1; and

(D) With the bacterial levels in the wash water controlled to limit bacterial contamination of the cotton.

(ii) On a batch kier washing system including the following conditions:

(A) With water;

(B) With cotton fiber mechanically opened and thoroughly prewetted before forming the cake;

(C) For low-temperature processing, at a temperature of no less than 60° C with a water-to-fiber ratio of no less than 40:1; or, for high-temperature processing at a temperature of no less than 93° C with a water-to-fiber ratio of no less than 15:1;

(D) With a minimum of one wash cycle followed by two rinse cycles for each batch, using fresh water in each cycle, and

(E) With bacteria levels in the wash water controlled to limit bacterial contamination of the cotton.

* * * * *

[FR Doc. 00-31187 Filed 12-6-00; 8:45 am]

BILLING CODE 4510-26-P